DEPARTMENT OF VETERANS AFFAIRS

Annual Pay Ranges for Physicians, Dentists, and Podiatrists of the Veterans Health Administration (VHA)

AGENCY: Department of Veterans Affairs.

ACTION: Notice; correction.

SUMMARY: The Department of Veterans Affairs (VA) is correcting a Notice that published in the Federal Register on August 20, 2019 which provides information on the annual pay range, which is the sum of the base pay rate and market pay for Veterans Health Administration (VHA) physicians, dentists, and podiatrists as prescribed by the Secretary for Department-wide applicability.

DATES: Annual pay ranges are applicable October 27, 2019.

FOR FURTHER INFORMATION CONTACT: Farine Cohen, Program Analyst, Policy and Programs, VHA Workforce Management & Consulting Office (10A2A), Department of Veterans Affairs, 810 Vermont Avenue NW, Washington, DC 20420, (202) 461-7179. This is not a toll-free number.

SUPPLEMENTARY INFORMATION: On August 20, 2019, at 84 FR 43261, VA published a Notice which provides information on the annual pay range, which is the sum of the base pay rate and market pay for Veterans Health Administration (VHA) physicians, dentists, and podiatrists as prescribed by the Secretary for Department-wide applicability.

Correction

In FR Doc. 2019-17901, appearing on page 43262 in the Federal Register of 84 FR 43262, the following correction is made:

1. On page 43262, in the Pay Table 6—Covered Executive Assignments, Network Chief Officer should be deleted.

Dated: August 21, 2019.
Jeffrey M. Martin,
Assistant Director, Office of Regulation Policy & Management, Office of the Secretary, Department of Veterans Affairs.

[FR Doc. 2019-18280 Filed 8-23-19; 8:45 am]

BILLING CODE 8320-01-P